DEPARTMENT OF THE INTERIOR

Bureau of Land Management

[OR-130-1020-PH; GP1-0184]

Notice of Meeting; Resource Advisory Council; Eastern Washington

AGENCY: Bureau of Land Management, Spokane District, Wenatchee Resource Area.

NOTICE: Notice of field-tour of the Eastern Washington Resource Advisory Council.

ACTION: Field-tour of the Eastern Washington Resource Advisory Council; May 24, 2001, on lands located in the areas of Wenatchee and Ephrata in Central Washington.

SUMMARY: The Eastern Washington Resource Advisory Council (RAC) will meet for a tour on May 24, 2001. The tour will commence at 10:30 a.m., at the Safeway parking lot in Ephrata, Washington. The RAC will visit lands along Sagebrush Flats, Jameson Lake Area, and Moses Coulee Sage Steppe. The purpose of this tour is to view sage grouse habitat representations in Central Washington. The field-trip will adjourn upon conclusion of business, but no later than 4 p.m. Public comments will be heard from 1 p.m. until 1:30 p.m. during the scheduled lunch break. If necessary to accommodate all wishing to make public comments, a time limit may be placed on each speaker. Topics to be discussed include management of the of the representative habitats. Transportation will be provided for RAC members only. Upon conclusion of the tour, return and retrieval of vehicles will commence at the Safeway parking lot in Ephrata, Washington.

FOR FURTHER INFORMATION, CONTACT: Bureau of Land Management, Wenatchee Resource Area Office, 915 N. Walla Walla, Wenatchee, Washington, 98801; or call 509-665-2100.

Dated May 8, 2001.
Kevin R. Devitt,
Acting District Manager.

[FR Doc. 01-12406 Filed 5-16-01; 8:45 am]

BILLING CODE 4310-33-P